SECURITIES AND EXCHANGE COMMISSION

[File No. 1-04364]

Issuer Delisting; Notice of Application of Ryder System, Inc. To Withdraw Its Common Stock, $.50 par value, From Listing and Registration on the Chicago Stock Exchange, Incorporated

March 2, 2005.

On February 11, 2005, Ryder System, Inc., a Florida corporation (“Issuer”), filed an application with the Securities and Exchange Commission (Commission), pursuant to Section 12(d) of the Securities Exchange Act of 1934 (“Act”) ¹ and Rule 12d2-2(d) thereunder,² to withdraw its common stock, $.50 par value (“Security”), from listing and registration on the Chicago Stock Exchange Incorporated (“CHX”).

¹ 15 U.S.C. 78l(d).

² 17 CFR 240.12d2-2(d).

The Board of Directors of the Issuer approved a resolution on July 16, 2004 to withdraw the Security from listing on CHX. The Issuer stated that the reasons for the Board's decision to withdraw the Security from CHX are the historically modest trading activity on CHX, the annual expense, and administrative burden. The Issuer states that the Security is currently listed, and will continue to list, on the New York Stock Exchange (“NYSE”).

The Issuer stated in its application that it has complied with applicable rules of CHX, including Article XXVII, Rule 4, by complying with all applicable laws in effect in the State of Florida and by providing CHX with the required documents governing the removal of securities from listing and registration on CHX. The Issuer's application relates solely to the withdrawal of the Security from listing on CHX and shall not affect its continued listing on the NYSE or its obligation to be registered under Section 12(b) of the Act.³

³ 15 U.S.C. 78l(b).

Any interested person may, on or before March 28, 2005, comment on the facts bearing upon whether the application has been made in accordance with the rules of CHX, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-04364; or

Paper Comments

• Send paper comments in triplicate to Jonathan G. Katz, Secretary, Securities and Exchange Commission, 450 Fifth Street, NW., Washington, DC 20549-0609.

All submissions should refer to File Number 1-04364. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. E5-975 Filed 3-8-05; 8:45 am]

BILLING CODE 8010-01-P